DEPARTMENT OF HEALTH AND HUMAN SERVICES

Office of the National Coordinator; American Health Information Community Consumer Empowerment Workgroup Meeting

ACTION: Announcing of meeting.

SUMMARY: This notice announces the second meeting of the American Health Information Community Empowerment Workgroup in accordance with the Federal Advisory Committee Act (Pub. L. 92-463, 5 U.S.C., App.).

DATES: February 21, 2006 from 1 p.m. to 5 p.m.

ADDRESSES: Hubert H. Humphrey Building (200 Independence Ave., SW., Washington, DC 20201), conference room 705A.

FOR FURTHER INFORMATION CONTACT: http://www.hhs.gov/healthit.

SUPPLEMENTARY INFORMATION: A Web address for the meeting will be available at http://www.hhs.gov/healthit.

Dated: February 1, 2006.
Dana Haza,
Office of Programs and Coordination, Office of the National Coordinator.

[FR Doc. 06-1177 Filed 2-8-06; 8:45 am]

BILLING CODE 4150-24-M